DEPARTMENT OF COMMERCE

International Trade Administration

[C-570-968]

Aluminum Extrusions from the People's Republic of China: Final Results and Partial Rescission of Countervailing Duty Administrative Review; 2014

AGENCY: Enforcement and Compliance, International Trade Administration, Department of Commerce.

SUMMARY: The Department of Commerce (the Department) has completed its administrative review of the countervailing duty (CVD) order on aluminum extrusions from the People's Republic of China (PRC) for the January 1, 2014 through December 31, 2014 period of review (POR). We have determined that mandatory respondents Jangho and Zhongya received countervailable subsidies during the POR. The final net subsidies are listed below in the section entitled “Final Results of Administrative Review.”

DATES: Effective December 20, 2016.

FOR FURTHER INFORMATION CONTACT: Davina Friedmann or Tyler Weinhold, AD/CVD Operations, Office VI, Enforcement and Compliance, International Trade Administration, U.S. Department of Commerce, 1401 Constitution Avenue NW., Washington, DC 20230; telephone: (202) 482-0698 or (202) 482-1121, respectively.

SUPPLEMENTARY INFORMATION:

Background

The Department selected Jangho ¹ and Zhongya ² as mandatory respondents in this administrative review of the CVD order ³ on aluminum extrusions from the PRC. The Department issued the Preliminary Results of this administrative review on June 3, 2016, and published them in the Federal Register on June 13, 2016.⁴ At that time, we invited interested parties to comment on the Preliminary Results. On June 9, 2016, we received a case brief from Wuxi Huida Aluminum Co., Ltd. (Wuxi Huida), a non-selected respondent.⁵ On July 13, 2016 and July 22, 2016, we granted parties extensions of time to submit case and rebuttal briefs.⁶ On July 18, 2016, we received case briefs from the Aluminum Extrusions Fair Trade Committee (Petitioner), the Government of China (GOC), Jangho, and RMD Kwikform North America, Inc. (RMD).⁷ On July 28, 2016, we received rebuttal briefs from the Petitioner and Jangho.⁸ On August 4, 2016, the Department released draft cash deposit and liquidation instructions, and on August 9, 2016, released a letter inviting comments on these draft instructions.⁹ On August 11, 2016, RMD and Jangho Americas, importers of subject merchandise, submitted comments on the draft customs instructions.¹⁰ While the Department received a request for a hearing, that request was subsequently withdrawn; therefore, the Department did not conduct a hearing for the instant administrative review.¹¹ The Department extended the final results of this administrative review on October 4, 2016 and October 20, 2016.¹² On November 14, 2016, the Department extended the deadline for the final results to November 20, 2016.¹³

¹ For purposes of this administrative review, “Jangho” refers to the crossed-owned entities consisting of the following members and affiliates of the Jangho Group: Guangzhou Jangho Curtain Wall System Engineering Co., Ltd.; Guangzhou Jangho's parent company, Jangho Group Co., Ltd.; Jangho Group Company's corporate parent, Beijing Jiangheyuan Holding Com., Ltd.; and Jangho Group Company's producer subsidiaries, Beijing Jangho Curtain Wall System Engineering Co., Ltd., Shanghai Jangho Curtain Wall System Engineering Co., Ltd., and Chengdu Jangho Curtain Wall System Engineering Co., Ltd. As stated above, we have used “Jangho” to refer to the cross-owned entities to which we will assign a subsidy rate. See “Final Results of Administrative Review,” below. We have used “the Jangho Group” and “Jangho Group” to refer to the corporate group consisting of Jangho Group Company and its subsidiaries (i.e., not including Beijing Jiangheyuan Holding Com., Ltd. and Jangho Group Company's other corporate parent, Xinjiang Jianghe Huizhong Equity Investment Limited Partnership). We have used “the Jangho companies,” to refer to the members of the Jangho Group as well as Beijing Jiangheyuan Holding Com., Ltd.and Xinjiang Jianghe Huizhong Equity Investment Limited Partnership. Further, Jangho Curtain Wall Hong Kong Ltd. is an affiliated Hong Kong reseller/trading company and member of the Jangho Group. For these final results, we are treating Jangho Curtain Wall Hong Kong Ltd. as a Hong Kong, or non-PRC, company, and have not attributed any subsidies to Jangho Curtain Wall Hong Kong Ltd., consistent with 19 CFR 351.525(b) (7). Any shipments of subject merchandise to the United States by Jangho Curtain Wall Hong Kong Ltd. will be subject to the Department's cash deposit requirements. For entries of subject merchandise exported by Jangho Curtain Wall Hong Kong Ltd., the Department intends to instruct CBP to collect cash deposits according to the appropriate rates assigned to the producer, or the all-others rate if the producer does not have its own assigned cash deposit rate.

² For purposes of the final results of this administrative review, “Zhongya” refers to the following companies: Guangdong Zhongya Aluminium Company Limited, Zhaoqing New Zhongya Aluminum Co., Ltd., New Zhongya Aluminum Factory, Karlton Aluminum Company Ltd., and Zhongya Shaped Aluminum (HK) Holding Limited (collectively, “Zhongya”). “Zhongya” includes companies selected as mandatory respondents, as well as companies that responded to the Department's initial questionnaire as a group by submitting a letter indicating that they would not be participating in this administrative review. See “Application of Adverse Facts Available to Non-Cooperative Mandatory Respondent Zhongya” for more information. We inadvertently omitted Zhongya Shaped Aluminum (HK) Holding Limited from the list of companies included in “Zhongya” in the Preliminary Results, but did include all companies in the Department's draft cash deposit and liquidation instructions, which were released to interested parties for comment. We clarify that it was the Department's intent to include Zhongya Shaped Aluminum (HK) Holding Limited in “Zhongya.” No parties commented in case briefs on the Department's treatment of these companies as a group in the Preliminary Results or on the Department's draft instructions. Use of “Zhongya” to refer to these companies collectively does not denote a cross-ownership determination with respect to any of these companies in this administrative review.

³ See Aluminum Extrusions from the People's Republic of China: Countervailing Duty Order, 76 FR 30653 (May 26, 2011) (Order).

⁴ See Aluminum Extrusions from the People's Republic of China: Preliminary Results of the Countervailing Duty Administrative Review and Preliminary Intent to Rescind, in Part; 2014, 81 FR 38137 (June 13, 2016) (Preliminary Results), and accompanying Preliminary Decision Memorandum.

⁵ See Letter from Wuxi Huida Aluminum Co., Ltd., Regarding: “Aluminum Extrusions from the People's Republic of China: Case Brief of Wuxi Huida,” dated June 9, 2016.

⁶ See Letter from Robert James, Program Manager, Office VI, to Interested Parties, Regarding: “2014 Countervailing Duty Review of the Antidumping Duty Order on Aluminum Extrusions from the People's Republic of China: Deadline to Provide Case Briefs,” dated July 13, 2016, and Letter from Robert James, Program Manager, Office VI, to Interested Parties, Regarding: “2014 Countervailing Duty Review of the Antidumping Duty Order on Aluminum Extrusions from the People's Republic of China: Deadline to Provide Rebuttal Briefs,” dated July 22, 2016.

⁷ See Letter from Petitioner, Regarding: “Aluminum Extrusions from the People's Republic of China: Case Brief,” dated July 18, 2016 (Petitioner's Case Brief); Letter from the GOC, Regarding: ” Aluminum Extrusions from China; 4th CVD Administrative Review GOC Case Brief,” dated July 18, 2016 (the GOC's Case Brief); Letter from Guangzhou Jangho Curtain Wall System Engineering Co., Ltd. and Jangho Curtain Wall Hong Kong Ltd. regarding: “Aluminum Extrusions from the People's Republic of China: Case Brief,” dated July 18, 2016 (Jangho's Case Brief); and Letter from RMD regarding: “Aluminum Extrusions from the People's Republic of China,” dated July 18, 2016 (RMD's Case Brief).

⁸ See Letter from Petitioner Regarding: “Aluminum Extrusions from the People's Republic of China: Rebuttal Brief,” dated July 28, 2016 (Petitioner's Rebuttal Brief), and Letter from Guangzhou Jangho Curtain Wall System Engineering Co., Ltd. and Jangho Curtain Wall Hong Kong Ltd. Regarding: “Aluminum Extrusions from the People's Republic of China: Rebuttal Brief,” dated July 28, 2016 (Jangho's Rebuttal Brief).

⁹ See Letter from the Department to interested parties regarding: “Aluminum Extrusions from the People's Republic of China: Submission of Comments on Draft Customs Instructions for the Preliminary Results,” dated August 9, 2016.

¹⁰ Letter from RMD to the Department, regarding: “Aluminum Extrusions from People's Republic of China {sic.}—Comments on Draft Customs Instructions,” dated August 11, 2016 (RMD's Customs Instructions Comments); and Letter from Jangho Americas to the Department, regarding: “Aluminum Extrusions from the People's Republic of China: Submission of Comments on Draft Customs Instructions for the Preliminary Results,” dated August 11, 2016 (Jangho Americas' Customs Instructions Comments).

¹¹ See Memorandum to The File regarding, “Aluminum Extrusions from the People's Republic of China: Ex Parte Telephone Conversation Concerning Withdrawal of Request for Hearing,” dated September 29, 2016.

¹² See Memorandum to Christian Marsh, Deputy Assistant Secretary for Antidumping and Countervailing Duty Operations, regarding: “Aluminum Extrusions from the People's Republic of China: Extension of Deadline for Final Results of Countervailing Duty Administrative Review,” dated October 4, 2016; Memorandum to Christian Marsh, Deputy Assistant Secretary for Antidumping and Countervailing Duty Operations, regarding: “Aluminum Extrusions from the People's Republic of China: Extension of Deadline for Final Results of Countervailing Duty Administrative Review,” dated October 20, 2016.

¹³ See Memorandum to Christian Marsh, Deputy Assistant Secretary for Antidumping and Countervailing Duty Operations, regarding: “Aluminum Extrusions from the People's Republic of China: Extension of Deadline for Final Results of Countervailing Duty Administrative Review,” dated November 14, 2016.

Scope of the Order

The merchandise covered by the order is aluminum extrusions which are shapes and forms, produced by an extrusion process, made from aluminum alloys having metallic elements corresponding to the alloy series designations published by The Aluminum Association commencing with the numbers 1, 3, and 6 (or proprietary equivalents or other certifying body equivalents).

Imports of the subject merchandise are provided for under the following categories of the Harmonized Tariff Schedule of the United States (“HTSUS”): 9405.99.40.20, 8424.90.90.80, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. Although the HTSUS subheadings are provided for convenience and customs purposes, our written description of the scope of the order, which is contained in the accompanying Issues and Decision Memorandum is dispositive.¹⁴

¹⁴ For a full description of the scope of the order, see Memorandum from Christian Marsh, Deputy Assistant Secretary for Antidumping and Countervailing Duty Operations to Paul Piquado Assistant Secretary for Enforcement and Compliance regarding: “Decision Memorandum for the Final Results of Countervailing Duty Administrative Review: Aluminum Extrusions from the People's Republic of China, 2014 (Fourth Review),” dated concurrently with this notice (Issues and Decision Memorandum).

Analysis of Comments Received

All issues raised in the parties' briefs are addressed in the Issues and Decision Memorandum, dated concurrently with this notice, and which is hereby adopted by this notice. A list of issues addressed is attached to this notice at Appendix I. The Issues and Decision Memorandum is a public document and is on file electronically via Enforcement and Compliance's Antidumping and Countervailing Duty Centralized Electronic Service System (ACCESS). ACCESS is available to registered users at http://access.trade.gov; the Issues and Decision Memorandum is available to all parties in the Central Records Unit (CRU), Room B8024 of the main Department of Commerce building. In addition, a complete version of the Issues and Decision Memorandum can be accessed directly at http://enforcement.trade.gov/frn/. The signed and electronic versions of the Issues and Decision Memorandum are identical in content.

Methodology

The Department conducted this review in accordance with section 751(a)(1)(A) of the Tariff Act of 1930, as amended (the Act). For each of the subsidy programs found countervailable, we find that there is a subsidy, i.e., a government-provided financial contribution that gives rise to a benefit to the recipient, and that the subsidy is specific.¹⁵ For a full description of the methodology underlying all of the Department's conclusions, including any determination that relied upon the use of adverse facts available pursuant to sections 776(a) and (b) of the Act, see the Issues and Decision Memorandum.

¹⁵ See sections 771(5)(B) and (D) of the Act regarding financial contribution; section 771(5)(E) of the Act regarding benefit; and section 771(5A) of the Act regarding specificity.

Partial Rescission of Review

For those companies named in the Initiation Notice ¹⁶ for which all review requests have timely been withdrawn, we are rescinding this administrative review in accordance with 19 CFR 351.213(d)(1). These companies are listed at Appendix II to this notice. For these companies, countervailing duties shall be assessed at rates equal to the rates of the cash deposits for estimated countervailing duties required at the time of entry, or withdrawal from warehouse, for consumption, during the POR, in accordance with 19 CFR 351.212(c)(2).

¹⁶ See Initiation of Antidumping and Countervailing Duty Administrative Reviews and Request for Revocation in Part, 80 FR 37588 (June 1, 2015) (Initiation Notice).

Also, between July 1, 2015 and August 1, 2015, the Department timely received no-shipment certifications from certain companies. In the Preliminary Results, the Department stated its intention to rescind the review with respect to these companies. The Department inquired with U.S. Customs and Border Protection (CBP) whether these companies had shipped merchandise to the United States during this review period,¹⁷ and CBP provided no evidence to contradict the claims made by these companies. However, these companies were also included in the Petitioner's timely withdrawal of its review requests, and because no party other than the Petitioner requested a review of these companies, the Department is rescinding the administrative review of these companies pursuant to 19 CFR 351.213(d)(1).

¹⁷ On August 27, 2015, the Department issued a message to CBP inquiring whether certain companies shipped merchandise to the United States during the instant review period, which was subsequently confirmed by CBP. See public message number 5239314.

Rate for Non-Selected Companies Under Review

In this review, and in addition to the two selected mandatory respondents, there are 45 companies for which a review was requested and not rescinded (non-selected companies). For these non-selected companies, we could not calculate a rate by weight averaging Jangho's and Zhongya's individual rates, as Zhongya's rate is based entirely on adverse facts available.¹⁸ Instead, for these final results, we based the non-selected companies' rate on the subsidy rate calculated for Jangho. For further information on the calculation of the non-selected companies' rate, refer to the section in the Issues and Decision Memorandum entitled, “Final Ad Valorem Rate for Non-Selected Companies Under Review.”

¹⁸ See sections 703(d) and 705(c)(5)(A) of the Act.

Final Results of Administrative Review

In accordance with 19 CFR 351.221(b)(5), we determine the following final net subsidy rates for the 2014 administrative review:

Company | 2014 Ad valorem rate (percent)
Jangho | 16.08
Zhongya | 195.69
Allied Maker Limited | 16.08
A-Plus Industries Ltd | 16.08
Asia Pacific Industrial (Group) Co., Ltd | 16.08
Birchwoods (Lin'an) Leisure Products Co., Ltd | 16.08
Changzhou Jinxi Machinery Co., Ltd | 16.08
Classic & Contemporary Inc | 16.08
Dongguang Aoda Aluminum Co., Ltd | 16.08
Dongguan Dazhan Metal Co., Ltd | 16.08
Dongguan Golden Tiger Hardware Industrial Co., Ltd | 16.08
ETLA Technology (Wuxi) Co., Ltd | 16.08
Fenghua Metal Product Factory | 16.08
Foshan Golden Source Aluminum Products Co., Ltd | 16.08
Foshan Guangcheng Aluminium Co., Ltd | 16.08
Genimex Shanghai, Ltd | 16.08
Global Hi-Tek Precision Limited | 16.08
Global Point Technology (Far East) Limited | 16.08
Golden Dragon Precise Copper Tube Group, Inc | 16.08
Gold Mountain International Development, Ltd | 16.08
Guangdong Whirlpool Electrical Appliances Co., Ltd | 16.08
Guang Ya Aluminium Industries Co., Ltd | 16.08
Hebei Xusen Wire Mesh Products Co., Ltd | 16.08
Jackson Travel Products Co., Ltd | 16.08
Jiangsu Shengrun Industry Co, Ltd | 16.08
Jiangsu Susun Group (HK) Co., Ltd | 16.08
Jiangsu Zhenhexiang New Material Technology Co., Ltd | 16.08
Johnson Precision Engineering (Suzhou) Co Ltd | 16.08
JMA (HK) Company Limited | 16.08
Kam Kiu Aluminum Products Sdn Bhd | 16.08
Markem Imaje China (China) Co. Ltd | 16.08
Metaltek Group Co., Ltd | 16.08
Ningbo Haina Machine Co., Ltd | 16.08
Ningbo Innopower Tengda Machinery Co., Ltd | 16.08
Ningbo Yinzhou Sanhua Electric Machine Factory | 16.08
Precision Metal Works Ltd | 16.08
Sapa Profiles (Shanghai) Co., Ltd | 16.08
Shanghai Automobile Air-Conditioner Accessories Co., Ltd | 16.08
Shanghai Tongtai Precise Aluminum Alloy Manufacturing Co., Ltd | 16.08
Summit Heat Sinks Metal Co., Ltd | 16.08
Suzhou New Hongji Precision Part Co | 16.08
Taishan City Kam Kiu Aluminium Extrusion Co., Ltd | 16.08
Taizhou United Imp & Export Corp., Ltd | 16.08
Tianjin Jinmao Import & Export Corp., Ltd | 16.08
Whirlpool Canada L.P | 16.08
Whirlpool Microwave Products Development Ltd | 16.08
Wuxi Huida Aluminum Co., Ltd | 16.08
Zhejiang Dongfeng Refrigeration Components Co., Ltd | 16.08

Assessment Rates

The Department intends to issue appropriate assessment instructions directly to CBP, 15 days after publication of these final results of review, to liquidate shipments of subject merchandise entered, or withdrawn from warehouse, for consumption on or after January 1, 2014, through December 31, 2014, at the ad valorem rates listed above.

Cash Deposit Requirements

The Department also intends to instruct CBP to collect cash deposits of estimated countervailing duties in the amounts indicated above for each company listed on shipments of subject merchandise entered, or withdrawn from warehouse, for consumption on or after the date of publication of the final results of this administrative review. For all non-reviewed firms, we will instruct CBP to collect cash deposits of estimated countervailing duties at the most recent company-specific or all-others rate applicable to the company, as appropriate. Accordingly, the cash deposit requirements that will be applied to companies covered by this order, but not examined in this administrative review, are those established in the most recently completed segment of the proceeding for each company. These cash deposit requirements, when imposed, shall remain in effect until further notice.

Administrative Protective Order

This notice serves as a reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: December 12, 2016.
Paul Piquado,
Assistant Secretary for Enforcement and Compliance.

Appendix I

List of Topics Discussed in the Final Decision Memorandum

Summary

Background

List of Comments

Scope of the Order

Partial Rescission of Review

Application of Adverse Facts Available Subsidy Rate for Zhongya

Analysis of Comments

Comment 1: Whether the Department Should Revise the Sales Denominator for Jangho Group Company to Exclude Revenues Derived from Services.

Comment 2: Whether Jangho's Curtain Wall and Window Wall Products Fall Within the Scope of the Aluminum Extrusions Order, Such That They Are Subject to this Review.

Comment 3: Whether the Department Can Countervail the Provision of Aluminum Extrusions for Less Than Adequate Remuneration (LTAR).

Comment 4: Whether the Department Can Countervail the Provision of Glass for LTAR.

Comment 5: Whether the Department Can Include the Subsidy Rates Determined for the Aluminum Extrusions for LTAR and Glass for LTAR Programs in its Calculation of the CVD Rate For Non-Selected Respondents.

Comment 6: Whether the Producers and Suppliers From Which Jangho Purchased Aluminum Extrusions and Glass During the Period of Review (POR) Are Government Authorities Within the Meaning of Section 771(5)(B) of the Act.

Comment 7: Whether the Provision of Aluminum Extrusions for Less-Than-Adequate Remuneration (LTAR) Program and the Glass for LTAR Program are Specific.

Comment 8: Whether the Department Should Use Tier I (China) Benchmarks to Determine the Adequacy of Remuneration for Jangho's Aluminum Extrusions and Glass Purchases.

Comment 9: Whether Commercial Loans from PRC Banks to Aluminum Extrusions Producers are Covered by the Policy Loans Program Previously Countervailed by the Department.

Comment 10: Whether the Department's Benchmark Interest Rate Computations are Arbitrary, Unsupported by the Record, or Unlawful.

Comment 11: Whether the Preferential Tax Policies for High or New Technology Enterprises Program and the Tax Offset for Research and Development Program are Specific.

Comment 12: Whether the Department has the Authority to Investigate or Countervail the Technology Innovation Assistance Fund (the Niulanshan Industrial Development Center—Technology Products Fund), Enterprise Technology Center Fund, and Trade Promotion and Brand Building Fund (the 2014 Guangdong Trade Promoting by Science & Tech and Brand Building Fund).

Comment 13: Whether the Department Erred in its Calculations of Benchmark Aluminum Extrusions and Glass Prices.

Comment 14: Whether the Department Should Include Exports of Merchandise Under HTS Heading 7610.10 in its Calculation of Benchmark Aluminum Extrusions Prices.

Comment 15: Whether the Department Erred by Excluding Wuxi Huida From the List of Companies for Which the Department Calculated a Net Countervailable Subsidy Rate.

Comment 16: Whether the Department Erred by Including Jiangsu Susun Among the List of Companies for Which the Department Intends to Rescind the Administrative Review.

Comment 17: The Department's Liquidation Instructions to United States Customs and Border Protection (CBP) Should Ensure That All of Jangho's Entries Remain Suspended Pursuant to the Preliminary Injunction Granted in December 2014.

Conclusion

Appendix II

List of Companies for Which We Are Rescinding this Administrative Review ¹⁹

¹⁹ According to information on the record of this review, certain companies listed below made no shipments to the United States during the instant review period. Each such company is identified as a “no shipments company.”

1. Acro Import and Export Co.

2. Activa International Inc.

3. Alnan Aluminum Co. Ltd.

4. Aluminicaste Fundicion de Mexico

5. Bracalente Metal Products (Suzhou) Co., Ltd.²⁰

²⁰ No shipments company.

6. Changshu Changshen Aluminum Products Co., Ltd.

7. Changzhou Tenglong Auto Parts Co., Ltd.

8. China Zhongwang Holdings, Ltd.

9. Chiping One Stop Industrial & Trade Co., Ltd.

10. Clear Sky Inc.

11. Cosco (J.M.) Aluminum Co., Ltd.

12. Danfoss Micro Channel Heat Exchangers (Jia Xing) Co., Ltd.²¹

²¹ No shipments company.

13. Dragonluxe Limited

14. Dynabright International Group (HK) Limited

15. Dynamic Technologies China

16. Ever Extend Ent. Ltd.²²

²² No shipments company.

17. First Union Property Limited

18. Foreign Trade Co. of Suzhou New & High-Tech. Industrial Development Zone

19. Foshan City Nanhai Hongjia Aluminum Alloy Co., Ltd.

20. Foshan Jinlan Aluminum Co. Ltd.

21. Foshan JMA Aluminum Company Limited

22. Foshan Shanshui Fenglu Aluminum Co., Ltd.

23. Foshan Shunde Aoneng Electrical Applicances Co., Ltd

24. Foshan Yong Li Jian Aluminum Co., Ltd.

25. Fujian Sanchuan Aluminum Co., Ltd.

26. Global PMX Dongguan Co., Ltd.

27. Gran Cabrio Capital Pte. Ltd.

28. Gree Electric Appliances

29. GT88 Capital Pte. Ltd.

30. Guangdong Hao Mei Aluminum Co., Ltd.

31. Guangdong Jianmei Aluminum Profile Company Limited

32. Guangdong JMA Aluminum Profile Factory (Group) Co., Ltd.

33. Guangdong Nanhai Foodstuffs Imp. & Exp. Co., Ltd.

34. Guangdong Weiye Aluminum Factory Co., Ltd.

35. Guangdong Xingfa Aluminum Co., Ltd.

36. Guangdong Xin Wei Aluminum Products Co., Ltd.²³

²³ No shipments company.

37. Guangdong Yonglijian Aluminum Co., Ltd.

38. Guangzhou Mingcan Die-Casting Hardware Products Co., Ltd.

39. Hangzhou Xingyi Metal Products Co., Ltd.

40. Hanwood Enterprises Limited

41. Hao Mei Aluminum Co., Ltd.

42. Hao Mei Aluminum International Co., Ltd.

43. Hanyung Alcoba Co., Ltd.

44. Hanyung Alcobis Co., Ltd.

45. Hanyung Metal (Suzhou) Co., Ltd.

46. Henan New Kelong Electrical Appliances Co., Ltd.

47. Hong Kong Gree Electric Appliances Sales Limited

48. Honsense Development Company

49. Hui Mei Gao Aluminum Foshan Co., Ltd.

50. IDEX Dinglee Technology (Tianjin) Co., Ltd.²⁴

²⁴ No shipments company.

51. IDEX Health ²⁵

²⁵ No shipments company.

52. IDEX Technology Suzhou Co., Ltd.²⁶

²⁶ No shipments company.

53. Innovative Aluminum (Hong Kong) Limited

54. iSource Asia

55. Jiangmen Qunxing Hardware Diecasting Co., Ltd.

56. Jiangsu Changfa Refrigeration Co., Ltd.

57. Jiangyin Trust International Inc.

58. Jiangyin Xinhong Doors and Windows Co., Ltd.

59. Jiaxing Jackson Travel Products Co., Ltd.

60. Jiaxing Taixin Metal Products Co., Ltd.

61. Jiuyan Co., Ltd.

62. Justhere Co., Ltd.

63. Kanal Precision Aluminum Product Co., Ltd.

64. Kromet International Inc.

65. Kunshan Giant Light Metal Technology Co., Ltd.

66. Liaoning Zhongwang Group Co., Ltd.

67. Liaoyang Zhongwang Aluminum Profile Co. Ltd.

68. Longkou Donghai Trade Co., Ltd.

69. Metaltek Metal Industry Co., Ltd.

70. Midea Air Conditioning Equipment Co., Ltd.

71. Midea International Training Co., Ltd.

72. Midea International Trading Co., Ltd.

73. Miland Luck Limited

74. Nanhai Textiles Import & Export Co., Ltd.

75. New Asia Aluminum & Stainless Steel Product Co., Ltd.

76. Nidec Sankyo (Zhejang) Corporation

77. Nidec Sankyo Singapore Pte. Ltd.

78. Ningbo Coaster International Co., Ltd.

79. Ningbo Hi Tech Reliable Manufacturing Company

80. Ningbo Ivy Daily Commodity Co., Ltd.

81. Ningbo Yili Import and Export Co., Ltd.²⁷

²⁷ No shipments company.

82. North China Aluminum Co., Ltd.

83. North Fenghua Aluminum Ltd.

84. Northern States Metals

85. PanAsia Aluminum (China) Limited

86. Pengcheng Aluminum Enterprise Inc.

87. Permasteelisa Hong Kong Ltd.²⁸

²⁸ No shipments company.

88. Permasteelisa South China Factory ²⁹

²⁹ No shipments company.

89. Pingguo Aluminum Company Limited

90. Pingguo Asia Aluminum Co., Ltd.

91. Popular Plastics Company Limited

92. Press Metal International Ltd

93. Samuel, Son & Co., Ltd.

94. Sanchuan Aluminum Co., Ltd.

95. Shangdong Huasheng Pesticide Machinery Co.

96. Shangdong Nanshan Aluminum Co., Ltd.

97. Shanghai Canghai Aluminum Tube Packaging Co., Ltd

98. Shanghai Dongsheng Metal

99. Shanghai Shen Hang Imp & Exp Co., Ltd.

100. Shenyang Yuanda Aluminum Industry Engineering Co. Ltd.

101. Shenzhen Hudson Technology Development Co., Ltd.

102. Shenzhen Jiuyuan Co., Ltd.

103. Sihui Shi Guo Yao Aluminum Co., Ltd.

104. Sincere Profit Limited

105. Skyline Exhibit Systems (Shanghai) Co., Ltd.

106. Suzhou JRP Import & Export Co., Ltd.

107. Tai-Ao Aluminum (Taishan) Co. Ltd.

108. Taizhou Lifeng Manufacturing Co., Ltd.

109. tenKsolar (Shanghai) Co., Ltd.

110. Tianjin Ganglv Nonferrous Metal Materials Co., Ltd.

111. Tianjin Ruxin Electric Heat Transmission Technology Co., Ltd.

112. Tianjin Xiandai Plastic & Aluminum Products Co., Ltd.

113. Tiazhou Lifeng Manufacturing Corporation/Taizhou Lifeng Manufacturing Corporation, Ltd.

114. Top-Wok Metal Co., Ltd.

115. Traffic Brick Network, LLC

116. Union Industry (Asia) Co., Ltd.

117. USA Worldwide Door Components (Pinghu) Co., Ltd.

118. Wenzhou Shengbo Decoration & Hardware

119. Whirlpool (Guangdong)

120. WTI Building Products, Ltd.

121. Xin Wei Aluminum Co.³⁰

³⁰ No shipments company.

122. Xin Wei Aluminum Company Limited³¹

³¹ No shipments company.

123. Xinya Aluminum & Stainless Steel Product Co., Ltd.

124. Yongji Guanghai Aluminium Industry Co., Ltd.³²

³² In the third administrative review, the role of this company was that of an input supplier. Absent information to the contrary placed on the record of this administrative review, we are treating this company as an input supplier, and are, therefore, rescinding the review of this company.

125. Zahoqing China Square Industry Limited/Zhaoqing China Square Industry Limited

126. Zhaoqing Asia Aluminum Factory Company Ltd.

127. Zhaoqing China Square Industrial Ltd.

128. Zhejiang Anji Xinxiang Aluminum Co., Ltd.

129. Zhejiang Yongkang Listar Aluminum Industry Co., Ltd.

130. Zhejiang Zhengte Group Co., Ltd.

131. Zhenjiang Xinlong Group Co., Ltd.

132. Zhongshan Daya Hardware Co., Ltd.

133. Zhongshan Gold Mountain Aluminum Factory Ltd.

134. Zhuhai Runxingtai Electrical Equipment Co., Ltd.

[FR Doc. 2016-30581 Filed 12-19-16; 8:45 am]

BILLING CODE 3510-DS-P